DEPARTMENT OF THE INTERIOR

National Park Service

[NPS-WASO-NRNHL-DTS#-26421; PPWOCRADI0, PCU00RP14.R50000]

National Register of Historic Places; Notification of Pending Nominations and Related Actions

AGENCY: National Park Service, Interior.

ACTION: Notice.

SUMMARY: The National Park Service is soliciting comments on the significance of properties nominated before September 1, 2018, for listing or related actions in the National Register of Historic Places.

DATES: Comments should be submitted by October 1, 2018.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before September 1, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

MAINE

Androscoggin County

Lewiston Commercial Historic District, 1-39 Lisbon, 157-249 Main, 35 Ash & 103 Park Sts., Lewiston, SG100003009

Kennebec County

Tiffany Chapel, 544 Tiffany Rd., Sidney, SG100003010

Penobscot County

United Baptist Church, 53 Main Rd., Charleston, SG100003011

WISCONSIN

Ozaukee County

J.M. ALLMENDINGER (Steambarge) Shipwreck, (Great Lakes Shipwreck Sites of Wisconsin MPS), 2.5 mi. SSE of Concordia U. in L. Michigan, Mequon, MP100003012

Authority: Section 60.13 of 36 CFR part 60

Dated: September 4, 2018.
Julie H. Ernstein,
Acting Chief, National Register of Historic Places/National Historic Landmarks Program and Deputy Keeper of the National Register of Historic Places.

[FR Doc. 2018-20006 Filed 9-13-18; 8:45 am]

BILLING CODE 4312-52-P